DEPARTMENT OF THE INTERIOR

Fish and Wildlife Service

[FWS-R2-ES-2013-N078; FXES11130200000-134-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before May 9, 2013.

ADDRESSES: Marty Tuegel, Section 10 Coordinator, by U.S. mail at Division of Endangered Species, U.S. Fish and Wildlife Service, P.O. Box 1306, Room 6034, Albuquerque, NM at 505-248-6920. Please refer to the respective permit number for each application when submitting comments.

FOR FURTHER INFORMATION CONTACT: Susan Jacobsen, Chief, Endangered Species Division, P.O. Box 1306, Albuquerque, NM 87103; 505-248-6651.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-98707A

Applicant: Mitchell Lockhart, Sallisaw, Oklahoma.

Applicant requests a new permit for research and recovery purposes to conduct presence/absence surveys of American burying beetle (Nicrophorus americanus) within Oklahoma, Texas, Missouri, and Kansas.

Permit TE-837751

Applicant: U.S. Bureau of Reclamation, Phoenix, Arizona.

Applicant requests an amendment to a current permit for research and recovery purposes to conduct presence/absence surveys of southwestern willow flycatcher (Empidonax traillii extimus) in Navajo, Apache, Greenlee, and Coconino Counties, Arizona, and Catron, Grant, and Hidalgo Counties, New Mexico; desert pupfish (Cyprinodon macularius macularius), Gila topminnow (Poeciliopsis occidentalis occidentalis), and Colorado pikeminnow (Ptychocheilus lucius) in San Juan, Grant, Catron, and Hidalgo Counties, New Mexico; and Gila chub (Gila intermedia), spikedace (Mega fulgida), loach minnow (Tiaroga cobitis), and woundfin (Plagopterus argentissimus) in Maricopa, Pima, Cochise, Graham, Coconino, Greenlee, and Santa Cruz Counties, Arizona, and Catron, Grant and Hidalgo Counties, New Mexico.

Permit TE-42737A

Applicant: Sevenecoten, LLC, Dripping Springs, Texas.

Applicant requests an amendment to a current permit for research and recovery purposes to conduct nest monitoring and searching for golden-cheeked warblers (Dendroica chrysoparia) and black-capped vireos (Vireo atricapilla) within Texas.

Permit TE-821356

Applicant: U.S. Geological Survey, Grand Canyon Monitoring and Research Station, Flagstaff, Arizona.

Applicant requests an amendment to a current permit for research and recovery purposes to deliberately take up to 150 endangered humpback chub (Gila cypha) smaller than 120 millimeters by hoop net, minnow trap, and seine within Arizona.

Permit TE-88512A

Applicant: New Mexico Department of Transportation Environmental Bureau, Santa Fe, New Mexico.

Applicant requests an amendment to a current permit for research and recovery purposes to excavate and transplant Echinocereus fendleri var. kuenzleri (Kuenzler's hedgehog cactus) along U.S. Highway 54 in New Mexico.

Permit TE-000948

Applicant: Western New Mexico University, Silver City, New Mexico.

Applicant requests a renewal to a current permit for research and recovery purposes to conduct presence/absence surveys and nest monitoring of southwestern willow flycatcher (Empidonax traillii extimus) within New Mexico.

Permit TE-829995

Applicant: Dallas Zoo and Aquarium, Dallas, Texas.

Applicant requests an amendment to a current permit for research and recovery purposes to conduct husbandry and holding of hawksbill sea turtles (Eretmochelys imbricata) at the Dallas Zoo and Aquarium.

Permit TE-00347B

Applicant: Alisha Powell, Sallisaw, Oklahoma.

Applicant requests a new permit for research and recovery purposes to capture and release American burying beetles (Nicrophorus americanus) for presence/absence surveys in Oklahoma.

Permit TE-009926

Applicant: Gulf South Research Corporation, Baton Rouge, Louisiana.

Applicant requests a renewal to a current permit for research and recovery purposes to conduct presence/absence surveys of interior least tern (Sterna antillarum) along the major tributaries of the Red River in Texas, Oklahoma, and Arkansas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: April 1, 2013.
Joy E. Nicholopoulos,
Acting Regional Director, Southwest Region.

[FR Doc. 2013-08180 Filed 4-8-13; 8:45 am]

BILLING CODE 4310-55-P